DEPARTMENT OF HEALTH AND HUMAN SERVICES

Office of the Secretary

Notice of Meeting

AGENCY: Department of Health and Human Services, Office of the Secretary, Office of Public Health and Science, Office of the President's Council on Fitness, Sports and Nutrition.

ACTION: Notice of meeting.

SUMMARY: As stipulated by the Federal Advisory Committee Act, the U.S. Department of Health and Human Services (DHHS) is hereby giving notice that the President's Council on Fitness, Sports and Nutrition (PCFSN) will hold a meeting. The meeting will be open to the public.

DATES: The meeting will be held on September 14, 2010, from 1:30 p.m. to 5 p.m.

ADDRESSES: The George Washington University, 1957 E Street, NW., 7th Floor, Washington, DC.

FOR FURTHER INFORMATION CONTACT: Ms. Shellie Pfohl, Executive Director, President's Council on Fitness, Sports and Nutrition, Tower Building, 1101 Wootton Parkway, Suite 560, Rockville, MD 20852, (240) 276-9866. Information about PCFSN, including details about the upcoming meeting, can be obtained at http://www.fitness.gov and/or by calling (240) 276-9567.

SUPPLEMENTARY INFORMATION: On June 23, 2010, the President established Executive Order 13545 to amend Executive Order 13265, dated June 6, 2002. Under Executive Order 13545, direction is given for the scope of the President's Council on Physical Fitness and Sports to be expanded to recognize that good nutrition goes hand in hand with fitness and sports participation. Executive Order 13545 gives authority for the title of the Council to be revised to include nutrition. The new title is President's Council on Fitness, Sports and Nutrition (PCFSN).

The primary functions of the PCFSN include (1) advising the President, through the Secretary, concerning progress made in carrying out the provisions of Executive Order 13545 and shall recommend to the President, through the Secretary, actions to accelerate progress; (2) advising the Secretary on ways to promote regular physical activity, fitness, sports participation, and good nutrition. Recommendations may address, but are not necessarily limited to, public awareness campaigns; Federal, State, and local physical activity; fitness, sports participation, and nutrition initiatives; and partnership opportunities between public- and private-sector health promotion entities; (3) functioning as a liaison to relevant State, local, and private entities in order to advise the Secretary regarding opportunities to extend and improve physical activity, fitness, sports, and nutrition programs and services at the local, State, and national levels; and (4) monitoring the need to enhance programs and educational and promotional materials sponsored, overseen, or disseminated by the Council, and shall advise the Secretary, as necessary, concerning such need. In performing its functions, the Council shall take into account the Federal Dietary Guidelines for Americans and the Physical Activity Guidelines for Americans.

The PCFSN will hold, at a minimum, one meeting in a calendar year. The meeting will be held to (1) assess ongoing Council activities and (2) discuss and plan future projects and programs. The agenda for the planned meeting is being developed and will be posted at http://www.fitness.gov when it has been finalized.

The meeting that is scheduled to be held on September 14, 2010 is open to the public. Every effort will be made to provide reasonable accommodations for persons with disabilities and/or special needs who wish to attend the meeting. Persons with disabilities and/or special needs should call (240) 276-9567 no later than close of business on September 10, 2010, to request accommodations. Members of the public who wish to attend the meeting are asked to pre-register by calling (240) 276-9567. Registration for public attendance must be completed before close of business on September 10, 2010.

Dated: August 23, 2010.
Shellie Y. Pfohl,
Executive Director, President's Council on Fitness, Sports and Nutrition.

[FR Doc. 2010-21348 Filed 8-26-10; 8:45 am]

BILLING CODE 4150-35-P